DEPARTMENT OF DEFENSE

Department of the Army

Army Education Advisory Subcommittee Meeting Notice

AGENCY: Department of the Army, DoD.

ACTION: Notice of open Subcommittee meeting.

SUMMARY: The Department of the Army is publishing this notice to announce the following Federal advisory committee meeting of the Department of the Army Historical Advisory Subcommittee (DAHAS), a subcommittee of the Army Education Advisory Committee. This meeting is open to the public.

DATES: The Department of the Army Historical Advisory Subcommittee will meet from 8:40 a.m. to 3:30 p.m. on August 14, 2017.

ADDRESSES: Department of the Army Historical Advisory Subcommittee, U.S. Army Center of Military History, 102 4th Ave., BLDG.35, Washington, DC 20319-5060.

FOR FURTHER INFORMATION CONTACT: Dr. Nicholas J. Schlosser, the Alternate Designated Federal Officer for the subcommittee, in writing at ATTN: AAMH-ZC U.S. Army Center of Military History, 102 4th Ave., BLDG.35, Fort McNair, Washington, DC 20319-5060 by email at nicholas.j.schlosser.civ@mail.mil or by telephone at (202) 685-2058.

SUPPLEMENTARY INFORMATION: The subcommittee meeting is being held under the provisions of the Federal Advisory Committee Act of 1972 (5 U.S.C., Appendix, as amended), the Government in the Sunshine Act of 1976 (5 U.S.C. 552b, as amended), and 41 CFR 102-3.150.

Purpose of the Meeting: The purpose of the meeting is to review the Army historical program and provide advice to and recommendations to the Executive Director of the U.S. Army Center of Military History and to the Secretary of the Army.

Agenda: The committee is chartered to provide independent advice and recommendations to the Secretary of the Army on the educational, doctrinal, and research policies and activities of U.S. Army educational programs. At this meeting the subcommittee will review the Army historical program and discuss ways to improve the provision of historical support to the Army. The subcommittee will also discuss ways to increase cooperation between the historical and military professions in advancing the purpose of the Army Historical Program, and the furtherance of the mission of the U.S. Army Center of Military History to promote the study and use of military history in both civilian and military Schools.

Public Accessibility to the Meeting: Pursuant to 5 U.S.C. 552b, as amended, and 41 CFR 102-3.140 through 102-3.165, and subject to the availability of space, this meeting is open to the public. Seating is on a first to arrive basis. Attendees are requested to submit their name, affiliation, and daytime phone number seven business days prior to the meeting to Dr. Schlosser, via electronic mail, the preferred mode of submission, at the address listed in the FOR FURTHER INFORMATION CONTACT section. Members of the public attending the committee meetings will not be permitted to present questions from the floor or speak to any issue under consideration by the committee. Because the meeting of the committee will be held in a Federal Government facility on a military post, security screening is required. A photo ID is required to enter post. Please note that security and gate guards have the right to inspect vehicles and persons seeking to enter and exit the installation. The U.S. Army Center of Military History is fully handicapped accessible. Wheelchair access is available in front at the main entrance of the building. For additional information about public access procedures, contact Dr. Schlosser, the committee's Alternate Designated Federal Officer, at the email address or telephone number listed in the FOR FURTHER INFORMATION CONTACT section.

Written Comments or Statements: Pursuant to 41 CFR 102-3.105(j) and 102-3.140 and section 10(a)(3) of the Federal Advisory Committee Act, the public or interested organizations may submit written comments or statements to the committee, in response to the stated agenda of the open meeting or in regard to the committee's mission in general. Written comments or statements should be submitted to Dr. Nicholas J. Schlosser, the committee Alternate Designated Federal Officer, via electronic mail, the preferred mode of submission, at the address listed in the FOR FURTHER INFORMATION CONTACT section. Each page of the comment or statement must include the author's name, title or affiliation, address, and daytime phone number. Written comments or statements being submitted in response to the agenda set forth in this notice must be received by the Alternate Designated Federal Official at least seven business days prior to the meeting to be considered by the committee. The Alternate Designated Federal Official will review all timely submitted written comments or statements with the committee Chairperson, and ensure the comments are provided to all members of the committee before the meeting. Written comments or statements received after this date may not be provided to the committee until its next meeting. Members of the public will be permitted to make verbal comments during the Committee meeting only at the time and in the manner described below. If a member of the public is interested in making a verbal comment at the open meeting, that individual must submit a request, with a brief statement of the subject matter to be addressed by the comment, at least seven (7) days in advance to the Committee's Alternate Designated Federal Official, via electronic mail, the preferred mode of submission, at the address listed in the FOR FURTHER INFORMATION CONTACT section. The Alternate Designated Federal Official will log each request, in the order received, and in consultation with the committee Chairperson determine whether the subject matter of each comment is relevant to the Committee's mission and/or the topics to be addressed in this public meeting. A 15-minute period near the end of the meeting will be available for verbal public comments. Members of the public who have requested to make a verbal comment and whose comments have been deemed relevant under the process described above, will be allotted no more than three (3) minutes during the period, and will be invited to speak in the order in which their requests were received by the Alternate Designated Federal Official.

Brenda S. Bowen,
Army Federal Register Liaison Officer.

[FR Doc. 2017-14918 Filed 7-14-17; 8:45 am]

BILLING CODE 5001-03-P